DEPARTMENT OF ENERGY

Federal Energy Regulatory Commission

Combined Notice of Filings #1

Take notice that the Commission received the following electric corporate filings:

Docket Numbers: EC24-13-000.

Applicants: High Banks Wind, LLC, Irish Creek Wind, LLC, Soldier Creek Wind, LLC.

Description: Joint Application for Authorization Under Section 203 of the Federal Power Act of High Banks Wind, LLC, et al.

Filed Date: 10/27/23.

Accession Number: 20231027-5299.

Comment Date: 5 p.m. ET 11/17/23.

Take notice that the Commission received the following Complaints and Compliance filings in EL Dockets:

Docket Numbers: EL24-6-000.

Applicants: Gregory and Beverly Swecker v. Federal Energy Regulatory Commission (FERC).

Description: Complaint of Gregory and Beverly Swecker v. Federal Energy Regulatory Commission.

Filed Date: 10/26/23.

Accession Number: 20231026-5200.

Comment Date: 5 p.m. ET 11/15/23.

Take notice that the Commission received the following electric rate filings:

Docket Numbers: ER10-2137-029; ER10-2131-029; ER10-2138-030; ER10-2139-030; ER10-2140-029; ER10-2141-029; ER14-2187-023; ER14-2799-020; ER15-103-014; ER18-140-013; ER21-258-006; ER22-2144-005; ER22-2474-001; ER22-2475-001.

Applicants: Top Hat Wind Energy Holdings LLC, Top Hat Wind Energy LLC, Invenergy Nelson Expansion LLC, Todd Solar LLC, Lackawanna Energy Center LLC, Invenergy Nelson LLC, Beech Ridge Energy Storage LLC, Grand Ridge Energy Storage LLC, Grand Ridge Energy V LLC, Grand Ridge Energy IV LLC, Grand Ridge Energy III LLC, Grand Ridge Energy II LLC, Grand Ridge Energy LLC, Beech Ridge Energy LLC.

Description: Notice of Change in Status of Beech Ridge Energy LLC, et al.

Filed Date: 10/30/23.

Accession Number: 20231030-5180.

Comment Date: 5 p.m. ET 11/20/23.

Docket Numbers: ER10-2529-007; ER10-2534-008; ER22-1065-003; ER22-2622-002; ER23-1595-002.

Applicants: LRE Energy Services, LLC, Chaparral Springs, LLC, Rabbitbrush Solar, LLC, Kumeyaay Wind LLC, Buena Vista Energy, LLC.

Description: Notice of Non-Material Change in Status of Buena Vista Energy, LLC, et al.

Filed Date: 10/27/23.

Accession Number: 20231027-5300.

Comment Date: 5 p.m. ET 11/17/23.

Docket Numbers: ER17-2088-003; ER16-2035-003.

Applicants: Black Oak Wind, LLC, Apple Blossom Wind, LLC.

Description: Notice of Change in Status of Apple Blossom Wind, LLC, et al.

Filed Date: 10/30/23.

Accession Number: 20231030-5137.

Comment Date: 5 p.m. ET 11/20/23.

Docket Numbers: ER22-736-001.

Applicants: System Energy Resources, Inc.

Description: Refund Report: SERI Depreciation Refund Report (ER22-736) to be effective N/A.

Filed Date: 10/30/23.

Accession Number: 20231030-5097.

Comment Date: 5 p.m. ET 11/20/23.

Docket Numbers: ER22-2091-003; ER10-2136-021; ER11-4044-031; ER11-4046-030; ER21-2715-004; ER21-2716-004.

Applicants: Fairbanks Solar Holdings LLC, Fairbanks Solar Energy Center LLC, Gratiot County Wind II LLC, Gratiot County Wind LLC, Invenergy Cannon Falls LLC, Calhoun Solar Energy LLC.

Description: Notice of Change in Status of Calhoun Solar Energy LLC, et al.

Filed Date: 10/30/23

Accession Number: 20231030-5171.

Comment Date: 5 p.m. ET 11/20/23.

Docket Numbers: ER23-1846-001.

Applicants: Boomtown Solar Energy LLC.

Description: Notice of Non-Material Change in Status of Boomtown Solar Energy LLC.

Filed Date: 10/30/23.

Accession Number: 20231030-5138.

Comment Date: 5 p.m. ET 11/20/23.

Docket Numbers: ER23-2541-001.

Applicants: Nevada Cogeneration Associates #2.

Description: Tariff Amendment: Supplement to MBR Application to be effective 10/1/2023.

Filed Date: 10/30/23.

Accession Number: 20231030-5000.

Comment Date: 5 p.m. ET 11/20/23.

Docket Numbers: ER23-2747-000.

Applicants: SCEF1 Fuel Cell, LLC.

Description: Supplement to August 31, 2023 SCEF1 Fuel Cell, LLC tariff filing.

Filed Date: 10/30/23.

Accession Number: 20231030-5057.

Comment Date: 5 p.m. ET 11/9/23.

Docket Numbers: ER24-37-000.

Applicants: Midcontinent Independent System Operator, Inc.

Description: Annual Calculation of the Cost of New Entry value (“CONE”) for each Local Resource Zone (“LRZ”) in the MISO Region of Midcontinent Independent System Operator, Inc.

Filed Date: 10/5/23.

Accession Number: 20231005-5181.

Comment Date: 5 p.m. ET 11/6/23.

Docket Numbers: ER24-240-000.

Applicants: Southwest Power Pool, Inc.

Description: 205(d) Rate Filing: 3927R1 Diversion Wind Energy GIA to be effective 10/5/2023.

Filed Date: 10/27/23.

Accession Number: 20231027-5229.

Comment Date: 5 p.m. ET 11/17/23.

Docket Numbers: ER24-241-000.

Applicants: PJM Interconnection, L.L.C.

Description: 205(d) Rate Filing: Amendment to WMPA, Service Agreement No. 5817; Queue No. AF2-085 to be effective 1/1/2024.

Filed Date: 10/30/23.

Accession Number: 20231030-5030.

Comment Date: 5 p.m. ET 11/20/23.

Docket Numbers: ER24-242-000.

Applicants: Southwest Power Pool, Inc.

Description: 205(d) Rate Filing: 3125R15 Basin Electric Power Cooperative NITSA and NOA to be effective 10/1/2023.

Filed Date: 10/30/23.

Accession Number: 20231030-5035.

Comment Date: 5 p.m. ET 11/20/23.

Docket Numbers: ER24-243-000.

Applicants: Southern California Edison Company.

Description: 205(d) Rate Filing: SCE 2024 TRBAA Update to be effective 1/1/2024.

Filed Date: 10/30/23.

Accession Number: 20231030-5084.

Comment Date: 5 p.m. ET 11/20/23.

Docket Numbers: ER24-244-000.

Applicants: Pacific Gas and Electric Company.

Description: 205(d) Rate Filing: Q3 2023 Quarterly Filing of City and County of San Francisco's WDT SA (SA 275) to be effective 9/30/2023.

Filed Date: 10/30/23.

Accession Number: 20231030-5094.

Comment Date: 5 p.m. ET 11/20/23.

Docket Numbers: ER24-245-000.

Applicants: Duke Energy Carolinas, LLC.

Description: 205(d) Rate Filing: DEC-SEPA NITSA SA No. 127 to be effective 1/1/2024.

Filed Date: 10/30/23.

Accession Number: 20231030-5098.

Comment Date: 5 p.m. ET 11/20/23.

Docket Numbers: ER24-246-000.

Applicants: American Electric Power Service Corporation, PJM Interconnection, L.L.C.

Description: Compliance filing: American Electric Power Service Corporation submits tariff filing per 35: AEP submits Informational Filing about Att. 1 of ILDSA, SA No. 1336 to be effective N/A.

Filed Date: 10/30/23.

Accession Number: 20231030-5132.

Comment Date: 5 p.m. ET 11/20/23.

Docket Numbers: ER24-247-000.

Applicants: Midcontinent Independent System Operator, Inc., Montana-Dakota Utilities Co.

Description: 205(d) Rate Filing: Midcontinent Independent System Operator, Inc. submits tariff filing per 35.13(a)(2)(iii: 2023-10-30_SA 2908 MDU-Basin Electric 1st Rev FSA to be effective 1/1/2024.

Filed Date: 10/30/23.

Accession Number: 20231030-5152.

Comment Date: 5 p.m. ET 11/20/23.

Docket Numbers: ER24-248-000.

Applicants: The Potomac Edison Company, PJM Interconnection, L.L.C.

Description: 205(d) Rate Filing: The Potomac Edison Company submits tariff filing per 35.13(a)(2)(iii: Potomac Edison submits Borderline Customer Agreement, Service Agreement No. 6646 to be effective 6/1/2010.

Filed Date: 10/30/23.

Accession Number: 20231030-5170.

Comment Date: 5 pm ET 11/20/23.

Docket Numbers: ER24-249-000.

Applicants: Southwest Power Pool, Inc.

Description: Notice of Cancellation of Generator Interconnection Agreement of Southwest Power Pool, Inc.

Filed Date: 10/30/23.

Accession Number: 20231030-5181.

Comment Date: 5 p.m. ET 11/20/23.

Docket Numbers: ER24-250-000.

Applicants: PJM Interconnection, L.L.C.

Description: 205(d) Rate Filing: Original NSA, Service Agreement No. 7129; Queue No. AE2-206/AF1-078 to be effective 12/30/2023.

Filed Date: 10/30/23.

Accession Number: 20231030-5188.

Comment Date: 5 p.m. ET 11/20/23.

Take notice that the Commission received the following electric securities filings :

Docket Numbers: ES24-11-000; ES24-12-000; ES24-13-000; ES24-14-000; ES24-15-000; ES24-16-000.

Applicants: AEP Appalachian Transmission Company, Inc., AEP Indiana Michigan Transmission Company, Inc., AEP Kentucky Transmission Company, Inc., AEP Oklahoma Transmission company, Inc., AEP Southwestern Transmission Company, Inc., AEP West Virginia Transmission Company, Inc.

Description: Certificate of Notification of Issuance under Section 204(e) of Short-Term Debt of AEP Appalachian Transmission Company, Inc. et. al.

Filed Date: 10/27/23.

Accession Number: 20231027-5292.

Comment Date: 5 p.m. ET 11/17/23.

Docket Numbers: ES24-17-000.

Applicants: Portland General Electric Company.

Description: Application Under Section 204 of the Federal Power Act for Authorization to Issue Securities of Portland General Electric Company.

Filed Date: 10/30/23.

Accession Number: 20231030-5142.

Comment Date: 5 p.m. ET 11/20/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Dated: October 30, 2023.
Debbie-Anne A. Reese,
Deputy Secretary.

[FR Doc. 2023-24326 Filed 11-2-23; 8:45 am]

BILLING CODE 6717-01-P